BROADCASTING BOARD OF GOVERNORS

Sunshine Act Meeting

Date and Time: Wednesday, October 29, 2014, 3 p.m. EDT.

Place: Broadcasting Board of Governors, Cohen Building, Room 3321, 330 Independence Ave. SW., Washington, DC 20237.

Subject: Notice of Closed Meeting of the Broadcasting Board of Governors.

Summary: The members of the Broadcasting Board of Governors (BBG) will meet in a special session to further discuss and consider the Fiscal Year 2016 budget. According to Office of Management and Budget (OMB) Circular A-11, Section 22.1, all agency budgetary materials and data are considered confidential prior to the President submitting a budget to Congress. In accordance with section 22.5 of Circular A-11, the BBG has determined that its meeting should be closed to public observation pursuant to 5 U.S.C. 552b(c)(9)(B). In accordance with the Government in the Sunshine Act and BBG policies, the meeting will be recorded and a transcript of the proceedings, subject to the redaction of information protected by 5 U.S.C. 552b(c)(9)(B), will be made available to the public. The publicly-releasable transcript will be available for download at www.bbg.gov within 21 days of the date of the meeting.

Information regarding member votes to close the meeting and expected attendees can also be found on the Agency's public Web site.

Contact Person for More Information: Persons interested in obtaining more information should contact Oanh Tran at (202) 203-4545.

Oanh Tran,
Director of Board Operations.

[FR Doc. 2014-25841 Filed 10-27-14; 4:15 pm]

BILLING CODE 8610-01-P